NUCLEAR REGULATORY COMMISSION

Union Electric Company d/b/a AmerenUE, Notice of Receipt and Availability of Application for a Combined License; Correction

AGENCY: Nuclear Regulatory Commission.

ACTION: Notice of receipt and availability; Correction.

SUMMARY: This document corrects a notice appearing in the Federal Register on October 9, 2008 (65 FR 59677), that notices the receipt and availability of an application for a combined license for an evolutionary power reactor nuclear power plant at the existing Callaway Power Plant site located in Callaway County, Missouri. This action is necessary to correct the heading of the document.

FOR FURTHER INFORMATION CONTACT: Surinder Arora, Project Manager, Office of New Reactors, telephone (301) 415-1421.

SUPPLEMENTARY INFORMATION:

On page 59677, in the third column, the heading is corrected to read as set forth above.

Dated at Rockville, Maryland, this 9th day of October 2008.
For the Nuclear Regulatory Commission.
Surinder Arora,
Project Manager, U.S. EPR Projects Branch, Division of New Reactor Licensing, Office of New Reactors.

[FR Doc. E8-24628 Filed 10-15-08; 8:45 am]

BILLING CODE 7590-01-P